DEPARTMENT OF TRANSPORTATION

Maritime Administration

[Docket No. MARAD-2021-0240]

Request for Comments of a Previously Approved Information Collection: Application for Coastwise Endorsement Eligibility Determinations for Foreign-Built Small Passenger Vessels

AGENCY: Maritime Administration, Transportation (DOT).

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on July 15, 2021.

DATES: Comments must be submitted on or before December 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: James Mead, 202-366-5723, Office of Cargo and Commercial Sealift, Maritime Administration, U.S. Department of Transportation, 1200 New Jersey Avenue SE, Washington, DC 20590, Email: james.mead@dot.gov.

SUPPLEMENTARY INFORMATION:

Title: Application for Coastwise Endorsement Eligibility Determinations for Foreign-built Small Passenger Vessels.

OMB Control Number: 2133-0529.

Type of Request: Renewal of a Previously Approved Information Collection.

Abstract: Owners of foreign-built small passenger vessels desiring a coastwise endorsement to their USCG issued certificate of documentation must first obtain a Maritime Administration (MARAD) eligibility determination. Applications for MARAD small passenger vessel coastwise endorsement eligibility provides justification for a positive determination and a uniform means for MARAD to obtain relevant information necessary to perform its administrative function in accordance with statute.

Respondents: Owners of foreign-built small passenger vessels, prospective vessel owners and operators, vessel brokers.

Affected Public: Maritime businesses.

Estimated Number of Respondents: 138.

Total Estimated Number of Responses: 138.

Frequency of Collection: Annually.

Estimated Time per Respondent: 1 hour.

Total Estimated Number of Annual Burden Hours: 138.

Public Comments Invited: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

By Order of the Acting Maritime Administrator.
T. Mitchell Hudson, Jr.,
Secretary, Maritime Administration.

[FR Doc. 2021-23765 Filed 10-29-21; 8:45 am]

BILLING CODE 4910-81-P